DEPARTMENT OF COMMERCE

International Trade Administration

Initiation of Antidumping and Countervailing Duty Administrative Reviews

AGENCY: Import Administration, International Trade Administration, Department of Commerce.

ACTION: Notice of initiation of antidumping and countervailing duty administrative reviews.

SUMMARY: The Department of Commerce has received requests to conduct administrative reviews of various antidumping and countervailing duty orders and findings with February anniversary dates. In accordance with the Department's regulations, we are initiating those administrative reviews. The Department of Commerce also received a request to revoke one antidumping duty order in part.

EFFECTIVE DATE: March 30, 2000.

FOR FURTHER INFORMATION CONTACT: Holly A. Kuga, Office of AD/CVD Enforcement, Import Administration, International Trade Administration, U.S. Department of Commerce, 14th Street and Constitution Avenue, NW, Washington, DC 20230, telephone: (202) 482-4737.

SUPPLEMENTARY INFORMATION:

Background

The Department has received timely requests, in accordance with 19 CFR 351.213(b)(1997), for administrative reviews of various antidumping and countervailing duty orders and findings with February anniversary dates. The Department also received timely requests to revoke in part the antidumping duty order on heavy forged hand tools (bars/wedges, hammers/sledges, and picks/mattocks) from the People's Republic of China.

Initiation of Reviews

In accordance with section 19 CFR 351.221(c)(1)(i), we are initiating administrative reviews of the following antidumping and countervailing duty orders and findings. We intend to issue the final results of these reviews not later than February 28, 2001.

| Period to be reviewed
Antidumping Duty Proceedings
India:
Certain Preserved Mushrooms, A-533-813 | 8/5/98-1/31/00
Agro Dutch Foods, Ltd.
Alpine Biotech, Ltd.
Mandeep Mushrooms, Ltd.
Hindustan Lever Limited (formerly Ponds India, Ltd.)
Saptarishi Agro Industries, Ltd.
Techtran Agro Industries, Ltd.
Transchem, Ltd.
Premier Mushroom Farms
Flex Foods, Ltd.
Weikfield Agro Products, Ltd.
Dinesh Agro Products, Ltd.
Himalaya International, Ltd.
Forged Stainless Steel Flanges, A-533-809 | 2/1/99-1/31/00
Echjay Forgings Limited
Isibars, Ltd.
Panchmahal Steel, Ltd.
Patheja Forgings and Auto Parts, Ltd.
Pushpaman Exports
Viraj Forgings, Ltd.
Stainless Steel Bar, A-533-810 | 2/1/99-1/31/00
Chandan Steel Ltd.
Isibars Limited
Panchmahal Steel Limited
Viraj Impoexpo Ltd.
Indonesia: Certain Preserved Mushrooms, A-560-802 | 8/5/98-1/31/00
PT Dieng Djaya
PT Surya Jaya Abadi Perkasa
PT Indo Evergreen Agro Business Corp.
PT Zeta Agro Corporation
Japan: Mechanical Transfer, Presses, A-588-810 | 2/1/99-1/31/00
Komatsu, Ltd.
People's Republic of China:
Axes/adzes, *A-570-803 | 2/1/99-1/31/00
Shandong Machinery Import & Export Corp.
Fujian Machinery & Equipment Import & Export Corp.
Tianjin Machinery Import & Export Corp.
Liaoning Machinery Import & Export Corp.
Shandong Huarong General Group Corp.
Bars/wedges, *A-570-803 | 2/1/99-1/31/00
Shandong Machinery Import & Export Corp.
Fujian Machinery & Equipment Import & Export Corp.
Tianjin Machinery Import & Export Corp.
Liaoning Machinery Import & Export Corp.
Shandong Huarong General Group Corp.
Hammers/sledges, * A-570-803 | 2/1/99-1/31/00
Shandong Machinery Import & Export Corp.
Fujian Machinery & Equipment Import & Export Corp.
Tianjin Machinery Import & Export Corp.
Liaoning Machinery Import & Export Corp.
Shandong Huarong General Group Corp.
Picks/mattocks,* A-570-803 | 2/1/99-1/31/00
Shandong Machinery Import & Export Corp.
Fujian Machinery & Equipment Import & Export Corp.
Tianjin Machinery Import & Export Corp.
Liaoning Machinery Import & Export Corp.
Shandong Huarong General Group Corp.
* If one of the above named companies does not qualify for a separate rate, all other exporters of certain heavy forged hand tools from the People's Republic of China who have not qualified for a separate rate are deemed to be covered by this review as part of a single PRC entity of which the named exporters are a part.
Certain Preserved Mushrooms, * A-570-851 | 8/5/98-1/31/00
China Processed Food Import & Export Co.
Gerber Food (Yunnan) Co., Ltd.
Mei Wei Food Industry Co., Ltd. ** | 5/7/98-1/31/00
Tak Fat Trading Co. ** | 5/7/98-1/31/00
* If one of the above named companies does not qualify for a separate rate, all other exporters of certain preserved mushrooms from the People's Republic of China who have not qualified for a separate rate are deemed to be covered by this review as part of a single PRC entity of which the named exporters are a part
** The review period for Tak Fat and Mei Wei is 5/7/98 through 1/31/00, because there was a critical circumstance finding, and liquidation was suspended 90 days prior to publication of the preliminary LTFV investigation.
Coumarin, *A-570-830 | 2/1/99-1/31/00
Jiangsu Native Produce Import & Export Corp.
* If the above named company does not qualify for a separate rate, all other exporters of coumarin from the People's Republic of China who have not qualified for a separate rate are deemed to be covered by this review as part of the single PRC entity of which the named exporter is a part
Manganese Metal, * A-570-840 | 2/1/99-1/31/00
China National Electronics Import & Export Hunan Co.
China Metallurgical Import & Export Hunan Corporation and Hunan Non Ferrous Metals Import & Export Assoc. Co.
Minmetals Precious & Rare Minerals Import & Export Co.
Shieldalloy Metallurgical Corporation
London & Scandinavian Metallurgical Co., Ltd
Sumitomo Canada, Ltd
* If one of the above named companies does not qualify for a separate rate, all other exporters of managanese metal from the People's Republic of China who have not qualified for a separate rate are deemed to be covered by this review as part of the single PRC entity of which the named exporters are a part.
Natural Bristle Paint Brushes, *A-57-0-501 | 2/1/99-1/31/00
Hunan Provincial Native Produce and Animal By-Products Import and Export Corporation
Hebei Animal By-Products Import/Export Corp.
* If one of the above named companies does not qualify for a separate rate, all other exporters of natural bristle paintbrushes from the People's Republic of China who have not qualified for a separate rate are deemed to be covered by this review as part of the single PRC entity of which the named exporters are a part.
Countervailing Duty Proceedings
None
Suspension Agreements
None

During any administrative review covering all or part of a period falling between the first and second or third and fourth anniversary of the publication of an antidumping duty order under § 351.211 or a determination under § 351.218(d) (sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

For transition orders defined in section 751(c)(6) of the Act, the Secretary will apply paragraph (j)(1) of this section to any administrative review initiated in 1998 (19 CFR 351.213(j)(1-2)).

Interested parties must submit applications for disclosure under administrative protective orders in accordance with 19 CFR 351.305.

These initiations and this notice are in accordance with section 751(a) of the Tariff Act of 1930, as amended (19 U.S.C. 1675(a)), and 19 CFR 351.221(c)(1)(i).

Dated: March 24, 2000.
Holly A. Kuga,
Acting Deputy Assistant Secretary, Group II, for Import Administration.

[FR Doc. 00-7927 Filed 3-29-00; 8:45 am]

BILLING CODE 3510-DS-M